DEPARTMENT OF COMMERCE

International Trade Administration

A-552-801

Certain Frozen Fish Fillets from the Socialist Republic of Vietnam: Amended Final Results of New Shipper Review

AGENCY: Import Administration, International Trade Administration, Department of Commerce.

EFFECTIVE DATE: July 28, 2009.

FOR FURTHER INFORMATION CONTACT: Emeka Chukwudebe and Alan Ray, AD/CVD Operations, Office 9, Import Administration, International Trade Administration, U.S. Department of Commerce, 14th Street and Constitution Avenue, N.W., Washington, DC, 20230; telephone: (202) 482 0219 and (202) 482 5403, respectively.

SUPPLEMENTARY INFORMATION:

Amendment to the Final Results:

In accordance with sections 751(h) and 777(i)(1) of the Tariff Act of 1930, as amended, (“Act”), on June 15, 2009, the Department of Commerce (“Department”) issued the final results in the antidumping new shipper review of certain frozen fish fillets from the Socialist Republic of Vietnam (“Vietnam”) covering Hiep Thanh Seafood Joint Stock Company (“Hiep Thanh”) and Asia Commerce Fisheries Joint Stock Company (“Acomfish”) (collectively, “Respondents”). See Frozen Fish Fillets from the Socialist Republic of Vietnam: Final Results of the Third New Shipper Reviews, 74 FR 29473, (June 22, 2009) (“Final Results”).

On June 22, 2009, Petitioners ¹ filed a timely allegation that the Department made a ministerial error in the Final Results and requested, pursuant to 19 CFR 351.224, that the Department correct the alleged ministerial error in the calculation of the margins for Acomfish and Hiep Thanh. No other party in this proceeding submitted comments on the Department's final margin calculations.

¹ Catfish Farmers of America and individual U.S. catfish processors.

A ministerial error is defined as “an error in addition, subtraction, or other arithmetic function, clerical error resulting from inaccurate copying, duplication, or the like, and any other type of unintentional error which the {Department} considers ministerial.” See section 751(h) of the Act; see also 19 CFR 351.224(f).

After analyzing petitioner's comments, we have determined, in accordance with section 751(h) of the Act and 19 CFR 351.224(e), that we made a ministerial error in our calculation for the final results with respect to Acomfish and Hiep Thanh.² Specifically, we inadvertently excluded the surrogate values for packing materials during the packing stage of the margin calculation.

² See Memorandum to the File through Alex Villanueva, Program Manager, Office 9, from Emeka Chukwudebe, Case Analyst, Office 9, New Shipper Review of Certain Frozen Fish Fillets from the Socialist Republic of Vietnam: Analysis for the Final Results for Acomfish Joint Stock Company (“Acomfish”) dated June 15, 2009 (“Acomfish Final Analysis Memo”) at Attachment 2 and Memorandum to the File through Alex Villanueva, Program Manager, Office 9, from Alan Ray, Case Analyst, Office 9, Analysis of the Final Results of the New Shipper Reviews of Certain Frozen Fish Fillets from the Socialist Republic of Vietnam (“Vietnam”): Hiep Thanh Joint Stock Company (“Hiep Thanh”) dated June 15, 2009 (“Hiep Thanh Final Analysis Memo”) at Attachment 2.

Additionally, in the Final Results, we are correcting a typographical error in Comment 1 of the Final Decision Memo. See Final Decision Memo at Comment 1. Specifically, the surrogate financial ratios used were based on Apex's financial statements only, and not on the average of Gemini with Apex as stated in the Final Decision Memo. The text in the Final Decision Memo clearly indicates we only intended to use Apex's financial statements but we inadvertently included Gemini in the context of the last sentence.

The margin for Acomfish did not change following revisions made to the Final Results. Accordingly, the margin for Acomfish remains at 0.00 percent. For Hiep Thanh however, the margin increases from 6.68 percent to 13.76 percent. We further note that the errors did not affect the Vietnam-Wide entity rate, and thus it will not be revised.

Therefore, in accordance with section 751(h) of the Act, we are amending the final results in this antidumping duty new shipper review of certain frozen fish fillets from the Vietnam. After correcting the ministerial error, the amended final weighted-average dumping margins are as follows:

Certain Frozen Fish Fillets from Vietnam

Manufacturer/Exporter | Final Weighted-Average Margin | Amended Final Weighted-Average Margin
Acomfish | 0.00% | 0.00%
Hiep Thanh | 6.68% | 13.76%

Assessment Rates

The Department intends to issue assessment instructions to U.S. Customs and Border Protection (“CBP”) 15 days after the date of publication of these amended final results of review. In accordance with 19 CFR 351.212(b)(1), we have calculated importer-specific assessment rates for merchandise subject to this review.

Cash Deposit Requirements

The following deposit requirements will be effective retroactively on any entries made on or after June 22, 2009, the date of publication of the Final Results, for all shipments of subject merchandise entered, or withdrawn from warehouse, for consumption as provided by section 751(a)(2)(C) of the Act: (1) For subject merchandise produced and exported by Hiep Thanh, the cash deposit rate will be the percent listed above, or the equivalent per-unit rate; for subject merchandise produced and exported by Acomfish, the cash deposit rate will be zero; (2) for subject merchandise exported by Hiep Thanh or Acomfish, but not manufactured by Hiep Thanh or Acomfish, the cash deposit rate will continue to be the Vietnam-wide rate of 63.88 percent; and (3) for subject merchandise manufactured by Hiep Thanh or Acomfish, but exported by any party other than Hiep Thanh or Acomfish, the cash deposit rate will be the rate applicable to the exporter. These cash deposit requirements will remain in effect until further notice. In the 2nd administrative review, the Department stated that we would collect cash deposits and issue assessment instructions on a per-unit basis. See Certain Frozen Fish Fillets From the Socialist Republic of Vietnam: Final Results of the Second Administrative Review, 72 FR 13242, 13244 (March 21, 2007). Therefore, we intend to issue CBP instructions on that basis.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a) and 777(i) of the Act.

Dated: July 20, 2009.
Ronald K. Lorentzen,
Acting Assistant Secretary for Import Administration.

[FR Doc. E9-17872 Filed 7-27-09; 8:45 am]

BILLING CODE 3510-DS-S